DEPARTMENT OF COMMERCE

National Oceanic and Atmospheric Administration

50 CFR Part 660

[Docket No. 051202322-5322-01; I.D. 010506C]

RIN 0648-AU11

Fisheries Off West Coast States and in the Western Pacific; Western Pacific Pelagic Fisheries; Guam Longline Fishing Prohibited Area

AGENCY: National Marine Fisheries Service (NMFS), National Oceanic and Atmospheric Administration (NOAA), Commerce.

ACTION: Proposed rule; request for comments.

SUMMARY: This proposed rule would amend the geographic coordinates that define the longline fishing prohibited area in waters of the U.S. Exclusive Economic Zone (EEZ) around Guam. This action is necessary to correct an error in one of the published coordinates. The intended effect of this action is to accurately implement the Guam longline closed area.

DATES: Comments on the proposed rule must be received by February 21, 2006.

ADDRESSES: You may submit comments on this proposed rule, identified by I.D. 010506C by any of the following methods:

• E-mail: GuamCorrect@noaa.gov. Include in the subject line of the e-mail comment the following document identifier: “Guam longline correction.” Comments sent via e-mail, including all attachments, must not exceed a 10 megabyte file size.

• Federal e-Rulemaking portal: http://www.regulations.gov. Follow the instructions for submitting comments.

• Fax: 808-973-2941.

• Mail: William L. Robinson, Administrator,NMFS, Pacific Islands Region (PIR), 1601 Kapiolani Boulevard, Suite 1110, Honolulu, HI 96814.

FOR FURTHER INFORMATION CONTACT: Robert Harman, Pacific Islands Region, NMFS, 808 944-2271.

SUPPLEMENTARY INFORMATION: Portions of the EEZ around Guam are closed to pelagic longline fishing to prevent conflicts with users of other types of fishing gear. In 1992, NMFS published in the Federal Register a final rule that created a 50-nm longline closed area around Guam (57 FR 45989, October 6, 1992); the regulations that were implemented by that final rule contained an error in the geographic coordinates for one of the points that define the closed area. NMFS published a technical amendment (59 FR 46933, September 13, 1994) that corrected those coordinates. NMFS subsequently published a rule that consolidated several sections of the Code of Federal Regulations (CFR) under 50 CFR 660 (61 FR 34570, July 2, 1996). In that rule, the geographic coordinates for the same point (Point “C”) were inadvertently published with an error in 50 CFR 660.26(d). This proposed rule corrects the coordinates.

Classification

NMFS prepared a Final Environmental Impact Statement (EIS) and a supplemental EIS in 2001 and 2005, respectively. The EIS and supplement discuss the potential impacts on the environment as a result of pelagic longline fishing, and incorporate sea turtle conservation measures, protected species workshops, seabird deterrent measures in the Hawaii-based longline fishery, nearshore longline area closures around the islands of American Samoa, and more comprehensive pelagic fisheries monitoring through permit and logbook requirements for troll and handline fisheries in the U.S. EEZ around Pacific remote island areas.

This proposed rule does not contain any new, nor does it revise any existing, reporting, recordkeeping, or other compliance requirements. This proposed rule does not duplicate or overlap or conflict with other Federal rules.

The Chief Counsel for Regulation of the Department of Commerce certified to the Chief Counsel for Advocacy of the Small Business Administration that this proposed rule, if adopted, would not have a significant economic impact on a substantial number of small entities as follows.

The objective of the proposed action is an administrative correction of an error in the published geographic coordinates for one of the points that defines the longline closed area around Guam. The legal authority for this action is the Magnuson-Stevens Fishery Conservation and Management Act (16 U.S.C. 1801 et seq.), which established authority for regulation of U.S. fisheries in the EEZ to prevent overfishing and achieve optimum yield from those fisheries. There are currently no vessels participating in the pelagic longline fishery around Guam, so there are no vessels that would be directly affected by this proposed rule. No small entities are placed in competitive disadvantage to larger entities. Because there are no current participants in the fishery, there will be no significant reductions in profitability for a substantial number of small entities in any user groups, and there will be no disproportionate impacts between gear types, vessels, or port of landing.

As a result, an initial regulatory flexibility analysis is not required and none has been prepared.

This proposed rule has been determined to be not significant for purposes of Executive Order 12866.

List of Subjects in 50 CFR Part 660

Administrative practice and procedure, American Samoa, Fisheries, Fishing, Guam, Hawaiian Natives, Indians, Northern Mariana Islands, Reporting and recordkeeping requirements.

Dated: January 13, 2006.
James W. Balsiger,
Acting Deputy Assistant Administrator for Regulatory Programs, National Marine Fisheries Service.

For the reasons set out in the preamble, 50 CFR part 660 is proposed to be correctly amended as follows:

PART 660—FISHERIES OFF WEST COAST STATES AND IN THE WESTERN PACIFIC

1. The authority citation for part 660 continues to read as follows:

Authority: 16 U.S.C. 1801 et seq.

2. In § 660.26, revise the entry for Point C in the table in paragraph (d) to read as follows:

§ 660.26 Longline fishing prohibited area management.

* * * * *

(d) * * *

Point | N. lat. | E. long.
* * * * *
C | 13°41′ | 143°33′33″
* * * * *

[FR Doc. E6-650 Filed 1-19-06; 8:45 am]

BILLING CODE 3510-22-S